DEPARTMENT OF ENERGY

Proposed Agency Information Collection

AGENCY: U.S. Department of Energy.

ACTION: Notice and request for OMB review and comment

SUMMARY: The Department of Energy (DOE) has submitted to the Office of Management and Budget (OMB) for clearance, a proposal for collection of information under the provisions of the Paperwork Reduction Act of 1995. The Department of Energy is authorized to enter into voluntary agreements with U.S. industry under section 106 of the Energy Policy Act of 2005 (EPACT). The proposed data collection will be used to evaluate the success of the voluntary agreements and to report results to Congress. EPACT requires DOE to report to Congress on the effectiveness of the voluntary commitments to reduce industrial energy intensity. The reports to Congress should include an evaluation of the success of the voluntary agreements to reduce participant energy intensity, and independent verification of a sample of energy savings estimates provided by participants. EPACT directs the reports to be submitted in 2012 and 2017.

In order to reduce the level of respondent burden required by participants, DOE has designed a data collection instrument which relies primarily upon pre-existing utility and energy-use data. In addition to information on company contacts and identification of participating plants, DOE is asking for a breakout of energy use by fuel type (in million metric British Thermal Units) aggregated across all of the plants that are voluntarily participating. DOE is asking for the annual change in the participants' aggregate energy intensity in units of percentage. Energy intensity may be calculated with existing organizational methods, or DOE's baselining tool which will be offered as a calculator. The calculator is not considered to be a data collection instrument. Finally, participants are asked to describe energy savings projects in simple, narrative form allowing respondents to provide summary information rather than detailed responses. DOE intends to calculate energy savings using the energy-use data from the baseline and current year, along with the baseline adjustment factor.

As a result of comments received during the 60 Day Federal Register Notice, DOE has increased the estimate of burden hours on respondent companies from 3 hours per plant to 10 hours per plant. This reflects the estimate received from the public, as well as the burden estimate used by the Manufacturing Energy Consumption Survey (MECS). While MECS collects similar information, it does not require manufacturers to provide an energy intensity number which is required for EPACT 2005.

DATES: Comments regarding this collection must be received on or before March 2, 2009. If you anticipate that you will be submitting comments, but find it difficult to do so within the period of time allowed by this notice, please advise the OMB Desk Officer of your intention to make a submission as soon as possible. The Desk Officer may be telephoned at 202-395-4650.

ADDRESSES: Written comments should be sent to:

Desk Officer for the Department of Energy, Office of Information and Regulatory Affairs, Office of Management and Budget, New Executive Office Building, Room 10102, 735 17th Street, NW., Washington, DC 20503; and to

Michaela Martin, Oak Ridge National Laboratory , PO Box 2008, MS-6070, Oak Ridge, TN 37831-6070, or by fax at 865-241-4152 or by e-mail at martinma@ornl.gov.

FOR FURTHER INFORMATION CONTACT: Requests for additional information or copies of the information collection instrument and instructions should be directed to Michaela Martin, Oak Ridge National Laboratory, PO Box 2008, MS-6070, Oak Ridge, TN 37831-6070, or by fax at 865-241-4152 or by e-mail at martinma@ornl.gov.

SUPPLEMENTARY INFORMATION: This information collection request contains: (1) OMB No. {“New”}; (2) Information Collection Request Title: Save Energy Now Voluntary Pledge Report; (3) Type of Request: New; (4) Purpose: The Department of Energy is authorized to enter into voluntary agreements with U.S. industry under section 106 of the Energy Policy Act of 2005. Data will be collected from industry pledge participants, annually, on progress made towards the reduction of energy intensity goals established by the voluntary agreements. The data collected will be used to evaluate the success of the voluntary agreements and to report results to Congress; (5) Type of Respondents: Public; (6) Estimated Number of Respondents: 20 companies; (7) Estimated Number of Burden Hours: 20 respondent companies with approximately 14 plants each averaging 10 burden hours per plant for an estimated total of 2,800 burden hours; (8) Estimated Cost Burden: none.

Statutory Authority: 42 U.S.C. 15811.

Issued in Washington, DC, on January 26th, 2009.
Rita L. Wells,
Acting Deputy Assistant Secretary for Business Administration, Energy Efficiency and Renewable Energy.

[FR Doc. E9-2028 Filed 1-29-09; 8:45 am]

BILLING CODE 6450-01-P